DEPARTMENT OF COMMERCE

National Oceanic and Atmospheric Administration

RIN: 0648-XG49

Fisheries of the South Atlantic; South Atlantic Fishery Management Council

AGENCY: National Marine Fisheries Service (NMFS), National Oceanic and Atmospheric Administration (NOAA), Commerce.

ACTION: Notice of a public meeting of the South Atlantic Fishery Management Council's Allocation Committee.

SUMMARY: The South Atlantic Fishery Management Council will hold a meeting of its Allocation Committee in North Charleston, SC.

DATES: The meeting will take place April 8-9, 2008. See SUPPLEMENTARY INFORMATION for specific dates and times.

ADDRESSES: The meeting will be held at Southern Wesleyan University, Classroom 6, 4055 Faber Place Drive, Suite 301, North Charleston, SC 29406.

FOR FURTHER INFORMATION CONTACT: Kim Iverson, Public Information Officer, South Atlantic Fishery Management Council, 4055 Faber Place Drive, Suite 201, North Charleston, SC 29405; telephone: (843) 571-4366 or toll free (866) SAFMC-10; fax: (843) 769-4520; email: kim.iverson@safmc.net.

SUPPLEMENTARY INFORMATION: The Allocation Committee meeting will take place from 8:30 a.m. to 5 p.m. on April 8, 2008, and from 8:30 a.m. to 3 p.m. on April 9, 2008.

The Committee will continue to work on alternatives for consideration in the Council's draft Comprehensive Allocation Amendment. The amendment addresses allocations between recreational and commercial fishing sectors. The amendment currently includes alternatives to determine allocations based on (1) Landings data from the National Marine Fisheries Service or Atlantic Coast Cooperative Statistics Program, (2) Catch data from stock assessments (including discard mortalily), (3) the Council's Judgement on Fairness and Equity, and (4) detailed economic and social analysis. The Committee will receive a report on social projects/data collection completed or planned for the South Atlantic region, an overview of previous management actions and how reductions in harvest were applied to each sector, and a presentation on the applicability of certain economic models that may prove useful for helping to determine allocations for species managed by the Council.

Although non-emergency issues not contained in this agenda may come before this group for discussion, those issues may not be the subject of formal action during these meetings. Action will be restricted to those issues specifically identified in this notice and any issues arising after publication of this notice that require emergency action under section 305(c) of the Magnuson-Stevens Fishery Conservation and Management Act, provided the public has been notified of the Council's intent to take final action to address the emergency.

Special Accomodations

These meetings are physically accessible to people with disabilities. Requests for auxiliary aids should be directed to the Council office (see ADDRESSES) 3 days prior to the meetings.

Note: The times and sequence specified in this agenda are subject to change.

Dated: March 18, 2008.
Tracey L. Thompson,
Acting Director, Office of Sustainable Fisheries, National Marine Fisheries Service.

[FR Doc. E8-5779 Filed 3-20-08; 8:45 am]

BILLING CODE 3510-22-S